ENVIRONMENTAL PROTECTION AGENCY

[EPA-HQ-OAR-2020-0662; FRL-9792-01-OMS]

Information Collection Request Submitted to OMB for Review and Approval; Comment Request; NSPS for Secondary Lead Smelters (Renewal)

AGENCY: Environmental Protection Agency (EPA).

ACTION: Notice.

SUMMARY: The Environmental Protection Agency (EPA) has submitted an information collection request (ICR), NSPS for Secondary Lead Smelters (EPA ICR Number 1128.13, OMB Control Number 2060-0080), to the Office of Management and Budget (OMB) for review and approval in accordance with the Paperwork Reduction Act. This is a proposed extension of the ICR, which is currently approved through May 31, 2022. Public comments were previously requested, via the Federal Register, on February 8, 2021, during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before May 25, 2022.

ADDRESSES: Submit your comments, referencing Docket ID Number EPA-HQ-OAR-2020-0662, online using www.regulations.gov (our preferred method) or by mail to: EPA Docket Center, Environmental Protection Agency, Mail Code 2821T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit: https://www.epa.gov/dockets.

Abstract: The New Source Performance Standards (NSPS) for Secondary Lead Smelters (40 CFR part 60, subpart L) apply to existing facilities and new secondary lead smelting facilities: Any pot furnace of more than 250 kg (550 lb) charging capacity, blast (cupola) furnaces, and reverberatory furnaces. The affected facilities include any facility producing lead from a lead bearing scrap material by smelting to the metallic form. Blast furnace means any furnace used to recover metal from slag. Reverberatory furnaces include furnaces of various types, e.g., stationary, rotating, rocking and tilting. New facilities include those that commenced construction, modification, or reconstruction after the date of proposal. This information is being collected to assure compliance with 40 CFR part 60, subpart L.

In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form Numbers: None.

Respondents/affected entities: Secondary lead smelting facilities.

Respondent's obligation to respond: Mandatory (40 CFR part 60, subpart L).

Estimated number of respondents: 10 (total).

Frequency of response: Initially.

Total estimated burden: 26 hours (per year). Burden is defined at 5 CFR 1320.3(b).

Total estimated cost: $3,130 (per year), which includes $0 in annualized capital/startup and/or operation & maintenance costs.

Changes in the Estimates: The adjustment decrease in burden from the most recently-approved ICR is due to a decrease in the number of sources. There is a decrease in the number of estimated sources from 12 to 10 due to consolidation within the sector. The reduced number of estimated sources also led to a decrease in the number of responses. There are no capital/startup and/or operation and maintenance costs associated with the rule.

Courtney Kerwin,
Director, Regulatory Support Division.

[FR Doc. 2022-08702 Filed 4-22-22; 8:45 am]

BILLING CODE 6560-50-P